DEPARTMENT OF AGRICULTURE

Forest Service

North Wisconsin Resource Advisory Committee

AGENCY: Forest Service, Agriculture (USDA).

ACTION: Notice of meeting.

SUMMARY: The North Wisconsin Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as to make recommendations on recreation fee proposals for sites on the Chequamegon-Nicolet National Forest within Ashland, Bayfield, Florence, Forest, Langlade, Oconto, Price, Sawyer, Taylor, and Vilas Counties, consistent with the Federal Lands Recreation Enhancement Act.

DATES: An in-person and/or virtual meeting will be held on April 23, 2024, 9 a.m.-3 p.m., Central Daylight Time (CDT).

Written and Oral Comments: Anyone wishing to provide in-person and/or virtual oral comments must pre-register by 11:59 p.m. CDT on April 18, 2024. Written public comments will be accepted by 11:59 p.m. CDT on April 18, 2024. Comments submitted after this date will be provided to the Forest Service, but the committee may not have adequate time to consider those comments prior to the meeting.

All RAC meetings are subject to cancellation. For status of the meeting prior to attendance, please contact the person listed under FOR FURTHER INFORMATION CONTACT.

ADDRESSES: This meeting will be held in-person and/or virtually at the Rhinelander Supervisor's Office located at 500 Hanson Lake Road, Rhinelander, Wisconsin 54501. The public may also join virtually via teleconference and/or videoconference. RAC information and meeting details can be found at the following website: https://www.fs.usda.gov/main/cnnf/workingtogether/advisorycommittees or by contacting the person listed under FOR FURTHER INFORMATION CONTACT.

Written Comments: Written comments must be sent by email to adam.felts@usda.gov or via mail (i.e., postmarked) to Chequamegon-Nicolet National Forest, ATTN: Adam Felts, 500 Hanson Lake Road, Rhinelander, Wisconsin 54501. The Forest Service strongly prefers comments be submitted electronically.

Oral Comments: Persons or organizations wishing to make oral comments must pre-register by 11:59 p.m. CDT, April 18, 2024, and speakers can only register for one speaking slot. Oral comments must be sent by email to adam.felts@usda.gov or via mail (i.e., postmarked) to Adam Felts, 500 Hanson Lake Road, Rhinelander, Wisconsin 54501.

FOR FURTHER INFORMATION CONTACT: Adam Felts, Designated Federal Officer (DFO), by phone at 715-362-1335 or email at adam.felts@usda.gov.

SUPPLEMENTARY INFORMATION: The purpose of the meeting is to:

1. Elect a Chairperson;

2. Hear from Title II project proponents and discuss Title II project proposals;

3. Make funding recommendations on Title II projects;

4. Hear from the Forest Service and discuss recreation fee proposals; and

5. Make recommendations on recreation fee proposals.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken in account the needs of the diverse groups served by USDA, membership shall include to the extent possible, individuals with demonstrated ability to represent minorities, women, and persons with disabilities. USDA is an equal opportunity provider, employer, and lender.

Dated: March 5, 2024.
Cikena Reid,
USDA Committee Management Officer.

[FR Doc. 2024-04994 Filed 3-7-24; 8:45 am]

BILLING CODE 3411-15-P